Proclamation 10489 of October 31, 2022

National Lung Cancer Awareness Month, 2022

By the President of the United States of America

A Proclamation

During National Lung Cancer Awareness Month, we are inspired by the courage and fight of the millions of patients, survivors, caregivers, doctors, researchers, and advocates battling this terrible disease—the leading cause of cancer deaths in the United States. For the loved ones we have lost and all those we can save, we recommit to investing in cutting-edge screening, prevention, and treatments, making them more affordable and effective, and uniting this country in our movement to end cancer as we know it.

Over the past three decades, lung cancer case and death rates have decreased dramatically nationwide—an encouraging trend we owe largely to lower smoking rates and improved immunotherapies that use the body's own immune system to attack cancer. But lung cancer is still an overwhelmingly tough diagnosis. Rural communities have seen stubbornly high mortality rates, driven in part by increased tobacco use, and Black men are disproportionately likely to develop and die from lung cancer. For the nearly quarter-million Americans facing this diagnosis each year, the paralyzing fear of what is to come, the onslaught of new information, and the cost of new treatment can make the journey daunting.

When I was elected, I was determined to supercharge our Nation's work to cure cancer. The First Lady and I set a goal of cutting the cancer death rate by half in the next 25 years—boosting funding for breakthroughs, turning more cancers from death sentences into chronic diseases, and better supporting both patients and caregivers. To achieve that, we reignited the Cancer Moonshot that I began under President Obama in 2016, convening our Nation's first-ever Cancer Cabinet. I also launched the Advanced Research Projects Agency for Health (ARPA-H). I had called for its creation as a candidate for President; and after I was elected, I brought Democrats, Republicans, and Independents in the Congress together to invest $1 billion in its launch. Modeled on the Defense Advanced Research Projects Agency, the Pentagon program that has led to world-changing technologies like the internet and GPS, ARPA-H will have a singular purpose—to find breakthrough ways to prevent, diagnose, treat, and cure cancer and other diseases, and free us all to live healthier lives. We could soon see vaccines that prevent cancer. Easy blood tests that could detect it early. A simple shot, instead of grueling chemo. The possibilities are astounding. I also signed an Executive Order to help ensure biotechnology invented in America is made in America, so we will always have access to these life-saving medications.

Meanwhile, my Administration is working to make current lifesaving care more affordable. I signed the Inflation Reduction Act, which caps prescription drug costs for seniors on Medicare at $2,000 per year, including for expensive cancer drugs. We are protecting and expanding the Affordable Care Act, which requires insurance companies to cover recommended cancer screenings and primary care visits, and prohibits them from denying coverage to cancer survivors or others with preexisting conditions. In August, I signed the PACT Act to ensure millions of veterans who were exposed to toxic substances during their military service get the health care and benefits that they and their families have earned. We are also fighting to reduce people's exposure to carcinogens in the first place. Because smoking is the leading cause of lung cancer, the Food and Drug Administration recently proposed a rule to ban menthol-flavored cigarettes and flavored cigars that are popular among first-time smokers, particularly children. The Environmental Protection Agency is working to ban the ongoing use of cancer-causing asbestos to protect American workers and families. The Centers for Disease Control and Prevention is helping cancer coalitions across the country boost access to screening and helping people quit smoking.

This month, I call on the private sector to continue its search for new treatments and a cure for lung cancer, to lower drug prices, to share more data to improve patient outcomes, and to promote smoking cessation. But there are also things that each of us can do to fight lung cancer in our own lives. For many, that starts with quitting smoking. You can reach a free expert to help you quit right away at BeTobaccoFree.gov, or by calling 877-44U-QUIT. Doctors across my Administration recommend that anyone over 50 who has smoked a pack or more a day for many years and currently smokes or has quit within the last 15 years should get an annual lung cancer screening. Beating cancer is not a red issue or a blue issue—it is something that affects us all and that we can all do together, drawing on the best talents, resources, and grit that this country has to offer. I am unwilling to postpone a cure.

NOW, THEREFORE, I, JOSEPH R. BIDEN JR., President of the United States of America, by virtue of the authority vested in me by the Constitution and the laws of the United States, do hereby proclaim November 2022 as National Lung Cancer Awareness Month. I call upon the people of the United States to speak with their doctors and health care providers to learn more about lung cancer. I encourage citizens, government agencies, private businesses, nonprofit organizations, the media, and other interested groups to increase awareness about what Americans can do to prevent, detect, and treat lung cancer.

IN WITNESS WHEREOF, I have hereunto set my hand this thirty-first day of October, in the year of our Lord two thousand twenty-two, and of the Independence of the United States of America the two hundred and forty-seventh.

[FR Doc. 2022-24169

Filed 11-2-22; 11:15 am]

Billing code 3395-F3-P